DEPARTMENT OF HEALTH AND HUMAN SERVICES

Substance Abuse and Mental Health Services Administration

Notice of a Meeting

Pursuant to Public Law 92-463, notice is hereby given of a meeting of the Substance Abuse and Mental Health Services Administration (SAMHSA) National Advisory Council in April 2003.

The SAMHSA National Advisory Council meeting will be open and will include a report by the SAMHSA Administrator on policy and program issues, discussions on SAMHSA's Center for Substance Abuse Prevention, Center for Substance Abuse Treatment, and Center for Mental Health Services policy issues, program developments and new program initiatives, a discussion on FY 2003 appropriation issues, a Budget Update, and a update on improvements in SAMHSA. There will also be presentations on SAMHSA's data collection projects and on SAMHSA's science to services initiative.

Attendance by the public will be limited to space available. Public comments are welcome. Please communicate with the individual listed as contact below to make arrangements to comment or to request special accommodations for persons with disabilities.

Substantive program information, a summary of the meeting, and a roster of Council members may be obtained either by accessing the SAMHSA Council Web site, http://www.samhsa.gov/council/council or by communicating with the contact whose name and telephone number is listed below.

Committee Name: SAMHSA National Advisory Council.

Date/Time: Thursday, April 24, 2003, 9 a.m. to 5:30 p.m. (open); Friday, April 25, 2003, 9 a.m. to 12:30 p.m. (open).

Place: Embassy Suites Hotel, Chevy Chase Room, 4300 Military Road, NW., Washington, DC 20015.

Contact: Toian Vaughn, Executive Secretary, 5600 Fishers Lane, Parklawn Building, Room 12C-05, Rockville, MD 20857. Telephone: (301) 443-7016; FAX: (301) 443-7590 and e-mail: TVaughn@samhsa.gov.

Dated: April 4, 2003.
Toian Vaughn,
Committee Management Officer, SAMHSA.

[FR Doc. 03-8854 Filed 2-10-03; 8:45 am]

BILLING CODE 4162-20-P